ENVIRONMENTAL PROTECTION AGENCY

[EPA-HQ-OMS-2024-0251; 12280-01-OMS]

Agency Information Collection Activities; Proposed Information Collection Request; Comment Request; Contractor Cumulative Claim and Reconciliation Renewal

AGENCY: Environmental Protection Agency (EPA).

ACTION: Notice.

SUMMARY: The Environmental Protection Agency (EPA) is planning to submit an information collection request (ICR), Contractor Cumulative Claim and Reconciliation (EPA ICR Number 0246.14, OMB Control Number 2030-0016) to the Office of Management and Budget (OMB) for review and approval in accordance with the Paperwork Reduction Act. Before doing so, EPA is soliciting public comments on specific aspects of the proposed information collection as described below. This is a request for approval of a new collection. This notice allows for 60 days for public comments.

DATES: Comments must be submitted on or before July 22, 2025.

ADDRESSES: Submit your comments, referencing Docket ID Number EPA-HQ-OMS-2024-0251 to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Robin Young, Policy Oversight Branch, POPCIAD, Office of Acquisition Solutions, (3802R) Environmental Protection Agency, 1200 Pennsylvania Ave. NW, Washington, DC 20460; telephone number: (205) 564-8954; email address: Young.Robin@EPA.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: All contractors who have completed an EPA cost-reimbursement type contract will be required to submit EPA Form 1900-10. EPA Form 1900-10 summarizes all costs incurred in performance of the contract and sets forth the final indirect rates. This form is reviewed by the contracting officer to determine the final costs reimbursable to the contractor. The Federal Acquisition Regulation (FAR) 52.216-7 states that the Government will pay only the costs determined to be allowable by the contracting officer in accordance with FAR subpart 31.2. Furthermore, FAR 52.216-7 states that indirect cost rates shall be established for each fiscal year at the close of a contractor's fiscal year. EPA Form 1900-10 summarizes this information for the entire contract period and provides a basis for cost review by contracting, finance, and audit personnel. In addition, FAR 4.804-5 mandates that the office administering the contract shall ensure that the costs and indirect cost rates are settled.

Form Numbers: EPA Form 1900-10.

Respondents/affected entities: All contractors who have completed an EPA cost-reimbursement type contract.

Respondent's obligation to respond: Mandatory (FAR 52.216-7).

Estimated number of respondents: 5 (total).

Frequency of response: Once, at end of contract.

Total estimated burden: 31.5 hours (per year). Burden is defined at 5 CFR 1320.03(b).

Total estimated cost: $7,353.60 (per year), which includes $0 annualized capital or operation & maintenance costs.

Changes in the Estimates: There is no change in hours in the total estimated respondent burden compared with the ICR currently approved by OMB.

Pamela Legare,
Director, Office of Acquisition Solutions.

[FR Doc. 2025-09275 Filed 5-22-25; 8:45 am]

BILLING CODE 6560-50-P